DEPARTMENT OF COMMERCE

National Oceanic and Atmospheric Administration

ENVIRONMENTAL PROTECTION AGENCY

Coastal Nonpoint Pollution Control Program: Approval Decisions on Delaware and United States Virgin Islands Coastal Nonpoint Pollution Control Programs

AGENCY: National Oceanic and Atmospheric Administration, U.S. Department of Commerce, and The U.S. Environmental Protection Agency.

ACTION: Notice of intent to approve the Delaware and United States Virgin Islands coastal nonpoint programs.

SUMMARY: Notice is hereby given of the intent to fully approve the Delaware and United States Virgin Islands Coastal Nonpoint Pollution Control Programs (coastal nonpoint programs) and of the availability of the draft Approval Decisions on conditions for the Delaware and United States Virgin Islands coastal nonpoint programs. Section 6217 of the Coastal Zone Act Reauthorization Amendments (CZARA), 16 U.S.C. 1455b, requires states and territories with coastal zone management programs that have received approval under section 306 of the Coastal Zone Management Act to develop and implement coastal nonpoint programs. Coastal states and territories were required to submit their coastal nonpoint programs to the National Oceanic and Atmospheric Administration (NOAA) and the U.S. Environmental Protection Agency (EPA) for approval in July 1995. NOAA and EPA conditionally approved the Delaware coastal nonpoint program on October 3, 1997 and the United States Virgin Islands coastal nonpoint program on November 18, 1997. NOAA and EPA have drafted approval decisions describing how Delaware and the United States Virgin Islands have satisfied the conditions placed on their programs and therefore have fully approved coastal nonpoint programs.

NOAA and EPA are making the draft decisions for the Delaware and United States Virgin Islands coastal nonpoint programs available for 30-day public comment periods. If no comments are received, the Delaware and United States Virgin Islands programs will be approved. If comments are received, NOAA and EPA will consider whether such comments are significant enough to affect the decision to fully approve the programs.

Copies of the draft Approval Decisions can be found on the NOAA Web site at http://www.ocrm.nos.noaa.gov/czm/6217/ or may be obtained upon request from: Joseph P. Flanagan, Coastal Programs Division (N/ORM3), Office of Ocean and Coastal Resource Management, NOS, NOAA, 1305 East-West Highway, Silver Spring, Maryland, 20910, tel. 301-713-3155, extension 201, e-mail joseph.flanagan@noaa.gov.

DATES: Individuals or organizations wishing to submit comments on the draft Approval Decisions should do so by March 1, 2002.

ADDRESSES: Comments should be made to John King, Acting Chief, Coastal Programs Division (N/ORM3), Office of Ocean and Coastal Resource Management, NOS, NOAA, 1305 East-West Highway, Silver Spring, Maryland, tel. 301-713-3155 extension 195, e-mail john.king@noaa.go or, for Delaware, Agnes White, tel. 215-814-5728, e-mail white.agnes@epa.gov, EPA Region 3, 1650 Arch Street, Philadelphia, Pennsylvania, 19103-2029; for United States Virgin Islands, to Donna Somboonlakana, tel. 212-637-3700, e-mail somboonlakana.donna@epa.gov, EPA Region 2, 290 Broadway, New York, New York, 10007-1866.

FOR FURTHER INFORMATION CONTACT: For Delaware, Joelle Gore, Coastal Programs Division (N/ORM3), Office of Ocean and Coastal Resource Management, NOS, NOAA, 1305 East-West Highway, Silver Spring, Maryland 20910, tel. 301-713-3155, extension 177, e-mail joelle.gore@noaa.gov; for United States Virgin Islands, Jewel Griffin-Linzey, Coastal Programs Division (N/ORM3), Office of Ocean and Coastal Resource Management, NOS, NOAA, 1305 East-West Highway, Silver Spring, Maryland, 20910, tel. 301-713-3155, extension 163, e-mail jewel.griffin-linzey@noaa.gov.

(Federal Domestic Assistance Catalog 11.419 Coastal Zone Management Program Administration)
Dated: January 25, 2002.
Margaret A. Davidson,
Acting Assistant Administrator for Ocean Services and Coastal Zone Management, National Oceanic and Atmospheric Administration.
Diane C. Regas,
Deputy Assistant Administrator, Office of Water, Environmental Protection Agency.

[FR Doc. 02-2265 Filed 1-29-02; 8:45 am]

BILLING CODE 3510-08-M